FEDERAL RETIREMENT THRIFT INVESTMENT BOARD

Notice of Sunshine Act Meeting

TIME AND DATE: 10:00 a.m. (Telephonic Eastern Time) November 25, 2013.

PLACE: 10th Floor Board Meeting Room, 77 K Street NE., Washington, DC 20002.

STATUS: Open to the public.

MATTERS TO BE CONSIDERED:

Open to the Public

1. Approval of the Minutes of the October 28, 2013 Board Member Meeting

2. Thrift Savings Plan Activity Reports by the Executive Director

a. Monthly Participant Activity Report

b. Monthly Investment Policy Report

c. Legislative Report

3. Quarterly Metrics Report

CONTACT PERSON FOR MORE INFORMATION: Kimberly Weaver, Director, Office of External Affairs, (202) 942-1640.

Dated: November 15, 2013.
James B. Petrick,
Secretary, Federal Retirement Thrift Investment Board.

[FR Doc. 2013-27814 Filed 11-15-13; 4:15 pm]

BILLING CODE 6760-01-P